DEPARTMENT OF STATE

[Public Notice 11208]

Determination Pursuant to the Foreign Missions Act

Pursuant to the authority vested in the Secretary of State by the laws of the United States including the Foreign Missions Act (22 U.S.C. 4301 et seq.) (the Act) and delegated pursuant to Department of State Delegation of Authority No. 214 of September 20, 1994, I hereby determine it reasonably necessary to achieve one or more of the purposes set forth in section 204(b) of the Act (22 U.S.C. 4304(b)) to require the bilateral People's Republic of China's (PRC) foreign mission to obtain advance approval from the Department of State's Office of Foreign Missions to host a cultural event with more than 50 people in attendance in the United States and its territories held outside the physical boundaries of the PRC bilateral foreign mission.

For purposes of this determination, the term “bilateral PRC foreign mission” means the PRC Embassy, consular posts, miscellaneous foreign government offices, or operation falling under the purview of the Vienna Convention on Diplomatic Relations and the Vienna Convention on Consular Relations, in the United States, including its real property and personnel.

This determination is subject to any additional terms and conditions approved by the Director or Deputy Director of the Office of Foreign Missions.

Clifton C. Seagroves,
Acting Director, Office of Foreign Missions, Department of State.

[FR Doc. 2020-20732 Filed 9-18-20; 8:45 am]

BILLING CODE 4710-43-P